ENVIRONMENTAL PROTECTION AGENCY

[FRL-6951-2]

National Advisory Council for Environmental Policy and Technology; Public Meeting

AGENCY: Environmental Protection Agency (EPA).

ACTION: Notice of public meeting.

SUMMARY: Under the Federal Advisory Committee Act, Public Law 92463, EPA gives notice of a meeting of the National Advisory Council for Environmental Policy and Technology (NACEPT). NACEPT provides advice and recommendations to the Administrator of EPA on a broad range of environmental policy and management issues.

NACEPT consists of a representative cross-section of EPA's partners and principle constituents who provide advice and recommendations on policy issues and serve as a sounding board for new strategies that the Agency is developing.

The NACEPT is addressing several policy issues associated with EPA's human resource planning, the integration of key Agency planning processes, and the identification of emerging issues and trends facing the Agency. The NACEPT Council will: Present its recommendations regarding EPA's Workforce Capacity efforts to the Agency; provide an update on the identification of emerging issues and trends facing EPA over the next five to ten years; and continue to help the Agency identify ways to integrate its human resource planning, information and technology planning, and strategic planning processes.

DATES: The NACEPT will hold a 2-day public meeting on Wednesday, March 21, from 8:30 a.m. to 4:30 p.m. and Thursday, March 22, 2001 from 8:30 a.m. to 3:45 p.m.

ADDRESSES: The NACEPT 2-day public meeting will be held at the Latham Hotel, 3000 M Street, NW., Washington, DC. Materials or written comments may be transmitted to the Council through Gwendolyn Whitt, Designated Federal Officer/NACEPT, U.S. EPA, Office of Cooperative Environmental Management (1601A), 1200 Pennsylvania Avenue NW., Washington, DC 20460. The public will have an opportunity to make comments directly to the Council during the first day of the meeting. Oral comments will be limited to a total time of five minutes. Requests to make oral comments must be submitted no later than March 15, 2001 to Gwendolyn Whitt, at the address above or faxed to (202) 501-0661. Anyone who has not reserved time in advance, may make comments during the public comment period as time allows.

FOR FURTHER INFORMATION CONTACT: Gwendolyn Whitt, Designated Federal Officer, NACEPT, at (202) 564-9741.

Dated: February 26, 2001.
Timothy O. Sherer,
Acting Deputy Director, Office of Cooperative Environmental Management.

[FR Doc. 01-5571 Filed 3-6-01; 8:45 am]

BILLING CODE 6560-50-P